DEPARTMENT OF LABOR

Employment and Training Administration

[TA-W-63,305]

Dana Holding Corporation, Heavy Vehicle Division Including On-Site Workers Being Paid Out of Kalamazoo, MI, Glasgow, KY; Amended Certification Regarding Eligibility To Apply for Worker Adjustment Assistance and Alternative Trade Adjustment Assistance

In accordance with Section 223 of the Trade Act of 1974 (19 U.S.C. 2273), and Section 246 of the Trade Act of 1074 (26 U.S.C. 2813), as amended, the Department of Labor issued a Certification of Eligibility to Apply for Worker Adjustment Assistance and Alternative Trade Adjustment Assistance on May 30, 2008, applicable to workers of Dana Holding Corporation, Heavy Vehicle Division, Glasgow, Kentucky. The notice was published in the Federal Register on June 16, 2008 (73 FR 34043). The subject workers produce gears, pinions, and differential gearings, and are not separately identifiable by articles produced.

The Department reviewed the certification after receiving a Trade Adjustment Assistance/Alternative Trade Adjustment Assistance petition filed on behalf of workers of Dana Heavy Vehicles System Group, Glasgow, Kentucky (TA-W-64,925).

The review showed that the workers covered by TA-W-64,925 are working at the subject firm but are being paid out of the firm's Kalamazoo, Michigan payroll. Therefore, the Department determines that the workers covered by TA-W-64,925 are members of the Glasgow, Kentucky group.

Accordingly, the Department is amending the certification to properly reflect this matter.

The intent of the Department's certification is to include all workers of Dana Holding Corporation, Heavy Vehicle Division, Glasgow, Kentucky, who were adversely affected by a shift in production to Mexico.

The amended notice applicable to TA-W-63,305 is hereby issued as follows:

All workers of Dana Holding Corporation, Heavy Vehicle Division, Glasgow, Kentucky, including on-site workers being paid out of Kalamazoo, Michigan, who became totally or partially separated from employment on or after April 24, 2007, through May 30, 2010, are eligible to apply for adjustment assistance under Section 223 of the Trade Act of 1974, and are also eligible to apply for alternative trade adjustment assistance under Section 246 of the Trade Act of 1974.

Signed at Washington, DC, this 2nd day of February 2009.
Linda G. Poole,
Certifying Officer, Division of Trade Adjustment Assistance.

[FR Doc. E9-3032 Filed 2-12-09; 8:45 am]

BILLING CODE 4510-FN-P